DEPARTMENT OF THE INTERIOR

Fish and Wildlife Service

Endangered Species Permit Applications

AGENCY: Fish and Wildlife Service, Interior.

ACTION: Notice of receipt of permit applications.

SUMMARY: The following applicants have applied for scientific research and enhancement of survival permits to conduct certain activities with endangered species pursuant to section 10(a)(1)(A) of the Endangered Species Act of 1973, as amended (16 U.S.C. 1531 et seq.).

Applicant: Kenneth C. Herin, Kansas Department of Transportation, Topeka, Kansas.

The applicant requests a permit to take American burying beetles (Nicrophorus americanus) in conjunction with recovery activities throughout the species' range for the purpose of enhancing its survival and recovery.

Applicant: Ocean Journey, Denver, Colorado.

The applicant requests a permit to possess bonytail chub (Gila elegans), humpback chub (Gila cypha), Colorado pikeminnow (Ptychocheilus lucius), razorback sucker (Xyrauchen texanus), woundfin (Plagopterus argentissimus), Gila topminnow (Poeciliopsis occidentalis), Yaqui chub (Gila purpurea), and Kanab ambersnails (Oxyloma haydeni kanabensis) for public display and propagation in conjunction with recovery activities for the purpose of enhancing their survival and recovery.

Applicant: Dr. Sylvia Torti, Red Butte Botanic Garden and Arboretum, Salt Lake City, Utah.

The applicant requests a permit to take dwarf bear poppy (Arctomecon humilis), Barneby ridge cress (Lepidium barnebyanum), kodachrome bladderpod (Lesquerella tumulosa), San Rafael cactus (Pediocactus despainii), clay phacelia (Phacelia argillacea), autumn buttercup (Ranunculus acriformis L. var. aestivalis), Barnaby reed mustard (Schoenocrambe barnebyi), Wright fishhook cactus (Sclerocactus wrightiae), and toad-flex cress (Schoenocrambe suffrutescens) in conjunction with recovery activities throughout the species' range for the purpose of enhancing their survival and recovery.

Applicant: David Pratt, Three Forks Ranch Corporation, Savery, Wyoming.

The applicant requests a permit for the future take of Colorado cutthroat trout (Oncorhynchus clarki pleuriticus) in Colorado and Wyoming. The permit application includes a proposed Candidate Conservation Agreement with Assurances, in which the landowner voluntarily implements conservation activities on his property to benefit the Colorado cutthroat trout Oncorhynchus clarki pleuriticus. Candidate Conservation Agreements with Assurances encourage private and other non-Federal property owners to implement conservation efforts and reduce threats to species that are proposed for listing under the Endangered Species Act, candidate species, or other sensitive species by assuring the landowners they will not be subject to increased restrictions if the species are listed in the future. Application requirements and issuance criteria for enhancement of survival permits through Candidate Conservation Agreement with Assurances are found in 50 CFR 12.22(d) and 17.32(d).

Applicant: Ted Alexander, Sun City, Kansas.

The applicant requests a permit for the future take of lesser prairie chicken (Tympanuchus pallidicinctus) in conjunction with recovery in Kansas. The permit application includes a proposed Candidate Conservation Agreement with Assurances, in which the landowner voluntarily implements conservation activities on his property to benefit the lesser prairie chicken (Tympanuchus pallidicinctus). Candidate Conservation Agreements with Assurances encourage private and other non-Federal property owners to implement conservation efforts and reduce threats to species that are proposed for listing under the Endangered Species Act, candidate species, or other sensitive species by assuring the landowners they will not be subject to increased restrictions if the species are listed in the future. Application requirements and issuance criteria for enhancement of survival permits through Candidate Conservation Agreement with Assurances are found in 50 CFR 12.22(d) and 17.32(d).

DATES: Written comments on these requests for permits must be received within 30 days from the date of publication of this notice.

ADDRESSES: Written data or comments should be submitted to the Assistant Regional Director-Ecological Services, U.S. Fish and Wildlife Service, P.O. Box 25486, Denver Federal Center, Denver, Colorado 80225-0486; telephone 303-236-7400, facsimile 303-236-0027.

FOR FURTHER INFORMATION CONTACT: Documents and other information submitted with these applications are available for review, subject to the requirements of the Privacy Act and Freedom of Information Act, by any party who submits a written request for a copy of such documents within 20 days of the date of publication of this notice to the address above; telephone 303-236-7400.

Dated: October 24, 2001.
John A. Blankenship,
Deputy Regional Director, Denver, Colorado.

[FR Doc. 01-29052 Filed 11-20-01; 8:45 am]

BILLING CODE 4310-55-P